DEPARTMENT OF ENERGY

Federal Energy Regulatory Commission

Combined Notice of Filings

Take notice that the Commission has received the following Natural Gas Pipeline Rate and Refund Report filings:

Filings Instituting Proceedings

Docket Numbers: RP25-388-000.

Applicants: Wyoming Interstate Company, L.L.C.

Description: 4(d) Rate Filing: Fuel_LU Quarterly Update Filing Eff March 2025 to be effective 3/1/2025.

Filed Date: 1/29/25.

Accession Number: 20250129-5196.

Comment Date: 5 p.m. ET 2/10/25.

Docket Numbers: RP25-389-000.

Applicants: ETC Tiger Pipeline, LLC.

Description: 4(d) Rate Filing: Fuel Filing Out of Cycle on 1-29-25 to be effective 3/1/2025.

Filed Date: 1/29/25.

Accession Number: 20250129-5201.

Comment Date: 5 p.m. ET 2/10/25.

Docket Numbers: RP25-390-000.

Applicants: MountainWest Overthrust Pipeline, LLC.

Description: 4(d) Rate Filing: Statement of Negotiated Rates Verison 20.0.0 to be effective 2/1/2025.

Filed Date: 1/29/25.

Accession Number: 20250129-5211.

Comment Date: 5 p.m. ET 2/10/25.

Docket Numbers: RP25-391-000.

Applicants: KPC Pipeline, LLC.

Description: Compliance filing: Order No. 587-AA Compliance to be effective 8/1/2025.

Filed Date: 1/30/25.

Accession Number: 20250130-5038.

Comment Date: 5 p.m. ET 2/11/25.

Docket Numbers: RP25-392-000.

Applicants: MarkWest New Mexico, L.L.C.

Description: Compliance filing: Order No. 587-AA Compliance to be effective 8/1/2025.

Filed Date: 1/30/25.

Accession Number: 20250130-5040.

Comment Date: 5 p.m. ET 2/11/25.

Docket Numbers: RP25-393-000.

Applicants: Scout V Hugoton Gathering, LP.

Description: Compliance filing: Order No. 587-AA Compliance to be effective 8/1/2025.

Filed Date: 1/30/25.

Accession Number: 20250130-5043.

Comment Date: 5 p.m. ET 2/11/25.

Docket Numbers: RP25-394-000.

Applicants: Enable Gas Transmission, LLC.

Description: Compliance filing: NAESB Version 4.0 Compliance Filing to be effective 8/1/2025.

Filed Date: 1/30/25.

Accession Number: 20250130-5054.

Comment Date: 5 p.m. ET 2/11/25.

Docket Numbers: RP25-395-000.

Applicants: ANR Pipeline Company.

Description: Compliance filing: NAESB—4.0 Compliance to be effective 8/1/2025.

Filed Date: 1/30/25.

Accession Number: 20250130-5057.

Comment Date: 5 p.m. ET 2/11/25.

Docket Numbers: RP25-396-000.

Applicants: Bison Pipeline LLC.

Description: Compliance filing: NAESB—4.0 Complaince to be effective 8/1/2025.

Filed Date: 1/30/25.

Accession Number: 20250130-5059.

Comment Date: 5 p.m. ET 2/11/25.

Docket Numbers: RP25-397-000.

Applicants: ANR Storage Company.

Description: Compliance filing: NAESB—4.0 Compliance to be effective 8/1/2025.

Filed Date: 1/30/25.

Accession Number: 20250130-5061.

Comment Date: 5 p.m. ET 2/11/25.

Docket Numbers: RP25-398-000.

Applicants: Blue Lake Gas Storage Company.

Description: Compliance filing: NAESB—4.0 Compliance to be effective 8/1/2025.

Filed Date: 1/30/25.

Accession Number: 20250130-5062.

Comment Date: 5 p.m. ET 2/11/25.

Docket Numbers: RP25-399-000.

Applicants: Great Lakes Gas Transmission Limited Partnership.

Description: Compliance filing: NAESB—4.0 Compliance to be effective 8/1/2025.

Filed Date: 1/30/25.

Accession Number: 20250130-5063.

Comment Date: 5 p.m. ET 2/11/25.

Docket Numbers: RP25-400-000.

Applicants: Enable Mississippi River Transmission, LLC.

Description: Compliance filing: NAESB Version 4.0 Compliance Filing to be effective 8/1/2025.

Filed Date: 1/30/25.

Accession Number: 20250130-5069.

Comment Date: 5 p.m. ET 2/11/25.

Docket Numbers: RP25-401-000.

Applicants: Columbia Gas Transmission, LLC.

Description: Compliance filing: NAESB—4.0 Compliance to be effective 8/1/2025.

Filed Date: 1/30/25.

Accession Number: 20250130-5070.

Comment Date: 5 p.m. ET 2/11/25.

Docket Numbers: RP25-402-000.

Applicants: MIGC LLC.

Description: Compliance filing: NAESB V4.0 Compliance to be effective 8/1/2025.

Filed Date: 1/30/25.

Accession Number: 20250130-5071.

Comment Date: 5 p.m. ET 2/11/25.

Docket Numbers: RP25-403-000.

Applicants: Gas Transmission Northwest LLC.

Description: Compliance filing: NAESB—4.0 Compliance to be effective 8/1/2025.

Filed Date: 1/30/25.

Accession Number: 20250130-5072.

Comment Date: 5 p.m. ET 2/11/25.

Docket Numbers: RP25-404-000.

Applicants: Columbia Gulf Transmission, LLC.

Description: Compliance filing: NAESB—4.0 Compliance to be effective 8/1/2025.

Filed Date: 1/30/25.

Accession Number: 20250130-5073.

Comment Date: 5 p.m. ET 2/11/25.

Docket Numbers: RP25-405-000.

Applicants: North Baja Pipeline, LLC.

Description: Compliance filing: NAESB—4.0 Compliance to be effective 8/1/2025.

Filed Date: 1/30/25.

Accession Number: 20250130-5074.

Comment Date: 5 p.m. ET 2/11/25.

Docket Numbers: RP25-406-000.

Applicants: NEXUS Gas Transmission, LLC.

Description: 4(d) Rate Filing: Order 587-AA NAESB 4.0 Standards Compliance Filing to be effective 8/1/2025.

Filed Date: 1/30/25.

Accession Number: 20250130-5076.

Comment Date: 5 p.m. ET 2/11/25.

Docket Numbers: RP25-407-000.

Applicants: Tuscarora Gas Transmission Company.

Description: Compliance filing: NAESB—4.0 Compliance to be effective 8/1/2025.

Filed Date: 1/30/25.

Accession Number: 20250130-5077.

Comment Date: 5 p.m. ET 2/11/25.

Docket Numbers: RP25-408-000.

Applicants: Crossroads Pipeline Company LLC.

Description: Compliance filing: NAESB—4.0 Compliance to be effective 8/1/2025.

Filed Date: 1/30/25.

Accession Number: 20250130-5079.

Comment Date: 5 p.m. ET 2/11/25.

Docket Numbers: RP25-409-000.

Applicants: Portland Natural Gas Transmission System.

Description: Compliance filing: NAESB—4.0 Compliance to be effective 8/1/2025.

Filed Date: 1/30/25.

Accession Number: 20250130-5080.

Comment Date: 5 p.m. ET 2/11/25.

Docket Numbers: RP25-410-000.

Applicants: Fayetteville Express Pipeline LLC.

Description: Compliance filing: NAESB Version 4.0 Compliance Filing to be effective 8/1/2025.

Filed Date: 1/30/25.

Accession Number: 20250130-5083.

Comment Date: 5 p.m. ET 2/11/25.

Docket Numbers: RP25-411-000.

Applicants: Texas Eastern Transmission, LP.

Description: 4(d) Rate Filing: Order 587-AA NAESB 4.0 Standards Compliance Filing to be effective 8/1/2025.

Filed Date: 1/30/25.

Accession Number: 20250130-5087.

Comment Date: 5 p.m. ET 2/11/25.

Docket Numbers: RP25-412-000.

Applicants: Hardy Storage Company, LLC.

Description: Compliance filing: NAESB—4.0 Compliance to be effective 8/1/2025.

Filed Date: 1/30/25.

Accession Number: 20250130-5092.

Comment Date: 5 p.m. ET 2/11/25.

Docket Numbers: RP25-413-000.

Applicants: Millennium Pipeline Company, LLC.

Description: Compliance filing: NAESB—4.0 Compliance to be effective 8/1/2025.

Filed Date: 1/30/25.

Accession Number: 20250130-5100.

Comment Date: 5 p.m. ET 2/11/25.

Docket Numbers: RP25-414-000.

Applicants: Northern Border Pipeline Company.

Description: Compliance filing: NAESB 4.0 Compliance to be effective 8/1/2025.

Filed Date: 1/30/25.

Accession Number: 20250130-5110.

Comment Date: 5 p.m. ET 2/11/25.

Docket Numbers: RP25-415-000.

Applicants: Big Sandy Pipeline, LLC.

Description: 4(d) Rate Filing: Order 587-AA NAESB 4.0 Compliance Filing to be effective 8/1/2025.

Filed Date: 1/30/25.

Accession Number: 20250130-5113.

Comment Date: 5 p.m. ET 2/11/25.

Docket Numbers: RP25-416-000.

Applicants: Granite State Gas Transmission, Inc.

Description: Compliance filing: Revised Tariff Records Under Order 587-AA to be effective 8/1/2025.

Filed Date: 1/30/25.

Accession Number: 20250130-5117.

Comment Date: 5 p.m. ET 2/11/25.

Docket Numbers: RP25-417-000.

Applicants: Florida Gas Transmission Company, LLC.

Description: Compliance filing: NAESB Version 4.0 Compliance Filing to be effective 8/1/2025.

Filed Date: 1/30/25.

Accession Number: 20250130-5119.

Comment Date: 5 p.m. ET 2/11/25.

Docket Numbers: RP25-418-000.

Applicants: El Paso Natural Gas Company, L.L.C.

Description: 4(d) Rate Filing: Negotiated Rate Agreement Update (Hartree Feb 25) to be effective 2/1/2025.

Filed Date: 1/30/25.

Accession Number: 20250130-5122.

Comment Date: 5 p.m. ET 2/11/25.

Docket Numbers: RP25-419-000.

Applicants: Gulf Run Transmission, LLC.

Description: Compliance filing: NAESB Version 4.0 Compliance Filing to be effective 8/1/2025.

Filed Date: 1/30/25.

Accession Number: 20250130-5127.

Comment Date: 5 p.m. ET 2/11/25.

Docket Numbers: RP25-420-000.

Applicants: Rover Pipeline LLC.

Description: Compliance filing: NAESB Version 4.0 Compliance to be effective 8/1/2025.

Filed Date: 1/30/25.

Accession Number: 20250130-5134.

Comment Date: 5 p.m. ET 2/11/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 30, 2025.
Carlos D. Clay,
Deputy Secretary.

[FR Doc. 2025-02242 Filed 2-4-25; 8:45 am]

BILLING CODE 6717-01-P